DEPARTMENT OF ENERGY

Federal Energy Regulatory Commission

[IC09-598-000, FERC-598]

Commission Information Collection Activities, Proposed Collection; Comment Request; Extension

November 14, 2008.

AGENCY: Federal Energy Regulatory Commission, DOE.

ACTION: Notice.

SUMMARY: In compliance with the requirements of section 3507 of the Paperwork Reduction Act of 1995, 44 U.S.C. 3507, the Federal Energy Regulatory Commission (Commission) is soliciting public comment on the specific aspects of the information collection described below.

DATES: Comments on the information collection are due by January 22, 2009.

ADDRESSES: An example of this information collection may be obtained from the Commission's Web site (http://www.ferc.gov/docs-filings/elibrary.asp) under the “EG” or “FC” docket prefix heading. Comments may be filed either electronically or in paper format. Those parties filing electronically do not need to make a paper filing. For a paper filing an original and 14 copies of such comments should be submitted to the Secretary of the Commission, Federal Energy Regulatory Commission, 888 First Street, NE., Washington, DC 20426, and both the electronic and paper filings should refer to Docket No. IC09-598-000.

Documents filed electronically via the Internet must be prepared in an acceptable filing format and in compliance with the Commission's submission guidelines. Complete filing instructions and acceptable filing formats are available at http://www.ferc.gov/help/submission-guide.asp. To file the document, access the Commission's Web site at http://www.ferc.gov, choose the Documents & Filings tab, click on E-Filing (http://www:ferc.gov/docs-filing/efiling.asp), and then follow the instructions for each screen. First time users will have to establish a user name and password (http://www.ferc.gov/docs-filing/eregistration.asp). The Commission will send an automatic acknowledgement to the sender's e-mail address upon receipt of comments.

All comments may be viewed, printed or downloaded remotely via the Internet through the Commission's homepage using the eLibrary link. For user assistance, contact FERC Online Support (e-mail ferconlinesupport@ferc.gov or call toll free at (866) 208-3676 or for TTY, contact (202) 502-8659. In addition, users interested in tracking the docket activity, may do so through eSubscription (http://www.ferc.gov/docs-filing/esubscription.asp).

FOR FURTHER INFORMATION CONTACT: Michael Miller, Federal Energy Regulatory Commission, 888 First St., NE., Washington, DC 20426. He may be reached by telephone at (202) 502-8415, by fax at (202) 273-0873, and by e-mail at michael.miller@ferc.gov.

SUPPLEMENTARY INFORMATION: The information collected under the requirements of FERC-598 “Self Certification for Entities Seeking Exempt Wholesale Generator or Foreign Utility Company Status” (OMB Control No. 1902-0166) is used by the Commission to implement the statutory provisions of Title XII, subchapter F of the Energy Policy Act of 2005 (EPAct 2005).¹

¹ Energy Policy Act of 2005, Pub. L. No. 109-58, 119 Stat. 594 (2005) (codified at 42 U.S.C. 16451, et seq.).

EPAct 2005 repealed the Public Utility Holding Company Act of 1935 (PUHCA 1935) in its entirety, including section 32, which provided for the Commission to exempt wholesale generators from PUHCA 1935 on a case-by-case basis, upon application. Following the repeal of PUHCA 1935 and the enactment of PUHCA 2005, in Order No. 667 ² the Commission amended its regulations to add procedures for self-certification by entities seeking exempt wholesale generator (EWG) and foreign utility company (FUCO) status. This self-certification is similar to the process available to entities that seek qualifying facility status.

² Repeal of the Public Utility Holding Company Act of 1935 and Enactment of the Public Utility Holding Company Act of 2005, 70 FR 75,592 (2005), FERC Statutes and Regulations ¶ 31,197 (2005), order on reh'g, 71 FR 28,446 (2006), FERC Statutes and Regulations ¶ 31,213 (2006), order on reh'g, 71 FR 42,750 (2006), FERC Statutes and Regulations ¶ 31,224 (2006), order on reh'g, FERC ¶ 61,133 (2007).

An EWG is a “person engaged directly or indirectly through one or more affiliates, and exclusively in the business of owning or operating, or both owning and operating, all or part of one or more eligible facilities and selling electric energy at wholesale.” ³ A FUCO is a company that “owns or operates facilities that are not located in any state and that are used for the generation, transmission, or distribution of electric energy for sale or the distribution at retail of natural or manufactured gas for heat, light, or power, if such company: (1) Derives no part of its income, directly or indirectly, from the generation, transmission, or distribution of electric energy for sale or the distribution at retail of natural or manufactured gas for heat, light, or power, within the United States; and (2) neither the company nor any of its subsidiary companies is a public-utility company operating in the United States”.⁴

³ 18 CFR 366.1.

⁴ 18 CFR 366.1.

An exempt EWG or FUCO or its representative may file with the Commission a notice of self certification demonstrating that it satisfies the definition of exempt wholesale generator or foreign utility company. In the case of EWGs, the person filing a notice of self certification must also file a copy of the notice of self certification with the state regulatory authority of the state in which the facility is located and that person must also represent to the Commission in its submission that it has filed a copy of the notice with the appropriate state regulatory authority.⁵

⁵ 18 CFR 366.7.

A submission of the information is necessary for the Commission to carry out its responsibilities under EPAct 2005.⁶ The Commission implements its responsibilities through the Code of Federal Regulations 18 CFR Part 366. These filing requirements are mandatory.

⁶ 42 U.S.C. 16451 et seq.

Action: The Commission is requesting a three-year extension of the current expiration date without any changes to the reporting requirements.

Burden Statement: Public reporting burden for this collection is estimated as:

Number of respondents annually | Number of responses per respondent | Average burden hours per response | Total annual burden hours
(1) | (2) | (3) | (1)x(2)x(3)
199 | 1 | 6 | 1,194

The estimated total cost to respondents is $72,549 [1,194 hours ÷ 2080 ⁷ hours per year × $126,384 ⁸ per year = $72,549]. The cost per respondent is equal to $364.

⁷ Number of hours an employee works per year.

⁸ Average annual salary per employee.

The reporting burden includes the total time, effort, or financial resources expended to generate, maintain, retain, disclose, or provide the information including: (1) Reviewing instructions; (2) developing, acquiring, installing, and utilizing technology and systems for the purposes of collecting, validating, verifying, processing, maintaining, disclosing and providing information; (3) training personnel to respond to an information collection; (4) searching data sources; (5) preparing and reviewing the information collection; and (6) transmitting or otherwise disclosing the information.

The estimate of cost for respondents is based upon salaries for professional and clerical support, as well as direct and indirect or overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology.

Kimberly Bose,
Secretary.

[FR Doc. E8-27563 Filed 11-19-08; 8:45 am]

BILLING CODE 6717-01-P